DEPARTMENT OF TRANSPORTATION

Pipeline and Hazardous Materials Safety Administration

49 CFR Part 172

Hazardous Materials Table, Special Provisions, Hazardous Materials Communications, Emergency Response Information, and Training Requirements

CFR Correction

In title 49 of the Code of Federal Regulations, part 172, revised as of October 1, 2007, beginning on page 132, in § 172.101 the following corrections are made to the Hazardous Materials Table:

1. The first entry for Amines, flammable, corrosive, n.o.s. or Polyamines, flammable corrosive, n.o.s. UN2733 is removed.

2. The entry for Amines, liquid, corrosive, flammable n.o.s. or Polyamines, liquid corrosive, flammable n.o.s. UN2734 PG I is reinstated above the second PG II entry in UN2733.

3. The entry for Calcium UN1401 is reinstated.

4. In Caustic alkali liquids, n.o.s. UN1719, “, 52” is added to both entries after the number “29”.

5. The entry for Chromosulfuric acid UN2240 is reinstated.

6. The second entry for Lighters containing flammable gas UN1057 is removed.

7. In the entry for Methylhydrazine UN1244, “49, 52 and 100” are added in the last column.

8. The entry for Organometallic substance solid, water reactive UN3395 is reinstated.

The reinstated text reads as follows:

§ 172.101 Special provisions.

* * * * *

§ 172.101 Hazardous Materials Table
Symbols | Hazardous materials descriptions and proper shipping names | Hazard class or Division | Identification Numbers | PG | Label Codes | Special provisions (§ 172.102) | (8): Packaging: Exceptions | (8): Packaging: Non-bulk | (8): Packaging: Bulk | (9): Quantity limitations: Passenger aircraft/rail | (9): Quantity limitations: Cargo aircraft only | (10): Location | (10): Other
(1) | (2) | (3) | (4) | (5) | (6) | (7) | (8A) | (8B) | (8C) | (9A) | (9B) | (10A) | (10B)
* * * * *
| Amines, liquid, corrosive, flammable n.o.s. or Polyamines, liquid corrosive, flammable n.o.s | 8 | UN2734 | I | 8,3 | A3, A6, N34, T14, TP2, TP27 | None | 201 | 243 | 0.5L | 2.5L | A | 52
* * * * *
| Calcium | 4.3 | UN1401 | II | 4.3 | IB7, IP2, T3, TP33 | 151 | 212 | 241 | 15 kg | 50kg | E | 52
* * * * *
| Chromosulfuric acid | 8 | UN2240 | I | 8 | A3, A6, A7, B4, B6, N34, T10 | None | 201 | 243 | 0.5L | 2.5L | B | 40, 66, 74, 89, 90
* * * * *
| Organometallic substance, solid, water-reactive. | 4.3 | UN3395 | I | 4.3 | N40, T9, TP7, TP33 | None | 211 | 242 | Forbidden | Forbidden | E | 40, 52
* * * * *

[FR Doc. E8-23119 Filed 9-30-08; 8:45 am]

BILLING CODE 1505-01-D